DEPARTMENT OF THE INTERIOR

Minerals Management Service

[Docket No. MMS-2010-OMM-0020]

MMS Information Collection Activity: 1010-0106, Oil Spill Financial Responsibility for Offshore Facilities, Extension of a Collection; Comment Request

AGENCY: Minerals Management Service (MMS), Interior.

ACTION: Notice of extension of an information collection (1010-0106).

SUMMARY: To comply with the Paperwork Reduction Act of 1995 (PRA), MMS is inviting comments on a collection of information that we will submit to the Office of Management and Budget (OMB) for review and approval. The information collection request (ICR) concerns the paperwork requirements in the regulations under “30 CFR Part 253, Oil Spill Financial Responsibility for Offshore Facilities.”

DATES: Submit written comments by June 25, 2010.

ADDRESSES: You may submit comments by either of the following methods listed below:

• Electronically: Go to http://www.regulations.gov. In the entry titled “Enter Keyword or ID,” enter docket ID MMS-2010-OMM-0020 then click search. Under the tab “View By Docket Folder” you can submit public comments and view supporting and related materials available for this collection of information. The MMS will post all comments.

• Mail or hand-carry comments to the Department of the Interior; Minerals Management Service; Attention: Cheryl Blundon; 381 Elden Street, MS-4024, Herndon, Virginia 20170-4817. Please reference Information Collection 1010-0106 in your comment and include your name and address.

FOR FURTHER INFORMATION CONTACT: Cheryl Blundon, Regulations and Standards Branch at (703) 787-1607. You may also contact Cheryl Blundon to obtain a copy, at no cost, of the regulation that requires the subject collection of information.

SUPPLEMENTARY INFORMATION: Title: 30 CFR Part 253, Oil Spill Financial Responsibility for Offshore Facilities.

Forms: MMS-1016, 1017, 1018, 1019, 1020, 1021, and 1022.

OMB Control Number: 1010-0106.

Abstract: This information collection request addresses the regulations at 30 CFR Part 253, Oil Spill Financial Responsibility for Offshore Facilities, including any supplementary Notices to Lessees and Operators (NTLs) that provide clarification, description, or explanation of these regulations, and forms MMS-1016 through MMS-1022.

The MMS will use the information collected under 30 CFR Part 253 to verify compliance with section 1016 of Oil Pollution Act. The information is necessary to confirm that applicants can pay for clean-up and damages from oil-spill discharges from Covered Offshore Facilities (COFs).

We will protect information from respondents considered proprietary under the Freedom of Information Act (5 U.S.C. 552) and its implementing regulations (43 CFR part 2) and under regulations at 30 CFR 250.197, “Data and information to be made available to the public or for limited inspection.” No items of a sensitive nature are collected. Responses are mandatory.

Frequency: On an annual basis, except for changes to existing COF listings that could occur throughout the term of the Oil Spill Financial Responsibility (OSFR) Certification.

Description of Respondents: Holders of leases, permits, and rights of use and easement in the OCS and in State coastal waters who will appoint designated applicants. Other respondents will be the designated applicants' insurance agents and brokers, bonding companies, and indemnitors. Some respondents may also be claimants.

Estimated Reporting and Recordkeeping “Hour” Burden: The currently approved annual reporting burden for this collection is 21,319 hours. The following chart details the individual components and respective hour burden estimates of this ICR. In calculating the burdens, we assumed that respondents perform certain requirements in the normal course of their activities. We consider these to be usual and customary and took that into account in estimating the burden.

Citation 30 CFR 253 | Reporting requirement | Hour burden
Various sections | The burdens for all general references to submitting evidence of OSFR are covered under the forms below | 0
Applicability and Amount of OSFR
11(a)(1); 40; 41 | Form MMS-1016—Designated Applicant Information Certification | 1
11(a)(1); 40; 41 | Form MMS-1017—Designation of Applicant | 9
12 | Request for determination of OSFR applicability | 2
15 | Notify MMS of change in ability to comply | 1
15(f) | Provide claimant written explanation of denial | 1
Methods for Demonstrating OSFR
21; 22; 23; 24; 26; 27; 30; 40; 41; 43 | Form MMS-1018—Self-Insurance or Indemnity Information | 1
29; 40; 41; 43 | Form MMS-1019—Insurance Certificate | 120
31; 40; 41; 43 | Form MMS-1020—Surety Bond | 24
32 | Proposal for alternative method to evidence OSFR (anticipate no proposals, but the regulations provide the opportunity) | 120
Requirements for Submitting OSFR Information
40; 41 | Form MMS-1021—Covered Offshore Facilities | 3
40; 41; 42 | Form MMS-1022—Covered Offshore Facility Changes | 1
Claims for Oil-Spill Removal Costs and Damages
Subpart F | Claims: MMS will not be involved in the claims process. Assessment of burden for claims against the Oil Spill Liability Trust Fund (33 CFR Parts 135, 136, 137) should be responsibility of the U.S. Coast Guard | 0
60(d) | Claimant request to determine whether a guarantor may be liable for a claim | 2

Estimated Reporting and Recordkeeping “Non-Hour Cost” Burden: We have identified no “non-hour cost” burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: April 14, 2010.
William S. Hauser,
Acting Chief, Office of Offshore Regulatory Programs.

[FR Doc. 2010-9622 Filed 4-23-10; 8:45 am]

BILLING CODE 4310-MR-P